DEPARTMENT OF TRANSPORTATION

Federal Aviation Administration

14 CFR Part 39

[Docket No. FAA-2017-0478; Product Identifier 2016-NM-174-AD; Amendment 39-19087; AD 2017-22-07]

RIN 2120-AA64

Airworthiness Directives; Airbus Airplanes

AGENCY: Federal Aviation Administration (FAA), Department of Transportation (DOT).

ACTION: Final rule.

SUMMARY: We are adopting a new airworthiness directive (AD) for certain Airbus Model A319 series airplanes; Model A320-211, -212, -214, -231, -232, and -233 airplanes; and Model A321-111, -112, -131, -211, -212, -213, -231, and -232 airplanes. This AD was prompted by a report of cracks on frame forks and outer skin on the forward and aft cargo compartment doors. This AD requires repetitive inspections of the frame forks, and corrective actions if necessary. This AD also includes optional modifications that constitute terminating action. We are issuing this AD to address the unsafe condition on these products.

DATES: This AD is effective January 2, 2018.

The Director of the Federal Register approved the incorporation by reference of certain publications listed in this AD as of January 2, 2018.

ADDRESSES: For service information identified in this final rule, contact Airbus, Airworthiness Office—EIAS, 1 Rond Point Maurice Bellonte, 31707 Blagnac Cedex, France; telephone: +33 5 61 93 36 96; fax: +33 5 61 93 44 51; email: account.airworth-eas@airbus.com; Internet: http://www.airbus.com. You may view this referenced service information at the FAA, Transport Standards Branch, 1601 Lind Avenue SW., Renton, WA. For information on the availability of this material at the FAA, call 425-227-1221. It is also available on the Internet at http://www.regulations.gov by searching for and locating Docket No. FAA-2017-0478.

Examining the AD Docket

You may examine the AD docket on the Internet at http://www.regulations.gov by searching for and locating Docket No. FAA-2017-0478; or in person at the Docket Management Facility between 9 a.m. and 5 p.m., Monday through Friday, except Federal holidays. The AD docket contains this AD, the regulatory evaluation, any comments received, and other information. The street address for the Docket Office (telephone: 800-647-5527) is Docket Management Facility, U.S. Department of Transportation, Docket Operations, M-30, West Building Ground Floor, Room W12-140, 1200 New Jersey Avenue SE., Washington, DC 20590.

FOR FURTHER INFORMATION CONTACT: Sanjay Ralhan, Aerospace Engineer, International Section, Transport Standards Branch, FAA, 1601 Lind Avenue SW., Renton, WA 98057-3356; telephone: 425-227-1405; fax: 425-227-1149.

SUPPLEMENTARY INFORMATION:

Discussion

We issued a notice of proposed rulemaking (NPRM) to amend 14 CFR part 39 by adding an AD that would apply to certain Airbus Model A319 series airplanes; Model A320-211, -212, -214, -231, -232, and -233 airplanes; and Model A321-111, -112, -131, -211, -212, -213, -231, and -232 airplanes. The NPRM published in the Federal Register on May 22, 2017 (82 FR 23160) (“the NPRM”). The NPRM was prompted by a report of cracks on frame forks and outer skin on the forward and aft cargo compartment doors. The NPRM proposed to require repetitive inspections of the frame forks, and corrective actions if necessary. The NPRM also included optional modifications that constitute terminating action. We are issuing this AD to detect and correct cracks on the frame forks and outer skin on the forward and aft cargo compartment doors, which could lead to reduced structural integrity and failure of the cargo compartment door, possible decompression of the airplane, and injury to occupants.

The European Aviation Safety Agency (EASA), which is the Technical Agent for the Member States of the European Union, has issued EASA AD 2016-0187, dated September 19, 2016 (referred to after this as the Mandatory Continuing Airworthiness Information, or “the MCAI”), to correct an unsafe condition for certain Airbus Model A319 series airplanes; Model A320-211, -212, -214, -231, -232, and -233 airplanes; and Model A321-111, -112, -131, -211, -212, -213, -231, and -232 airplanes. The MCAI states:

During full scale fatigue test, cracks have been found on frame forks and outer skin on forward and aft cargo doors.

To improve the fatigue behaviour of the frame forks, Airbus introduced modification (mod) 22948 in production, and issued inspection Service Bulletin (SB) A320-52-1032 and modification SB A320-52-1042, both recommended.

Since those actions were taken, further improved cargo compartment doors have been introduced in production through Airbus mod 26213, on aeroplanes having [manufacturer serial number] MSN 0759 and up. This modification, which is not available for in-service retrofit, also includes provisions that exclude installation of pre-mod 26213 aft and forward compartment cargo doors on an aeroplane.

In the frame of the Widespread Fatigue Damage (WFD) study, it has been determined that repetitive inspections are necessary for aft and forward cargo compartment doors on aeroplanes that do not (or no longer) embody mod 22948 (or SB A320-52-1042), and those that do not embody mod 26213. Failure to detect cracks would reduce the cargo door structural integrity.

This condition, if not detected and corrected, could lead to cargo door failure, possibly resulting in decompression of the aeroplane and injury to occupants.

To address this unsafe condition, Airbus issued SB A320-52-1171 to provide inspection instructions. This SB was later revised to correct the list of affected cargo doors. Airbus also issued SB A320-52-1170, introducing a door modification which constitutes terminating action for the repetitive special detailed inspection (SDI).

For the reason described above, this [EASA] AD requires accomplishment of repetitive SDI by rototest of all frame forks in beam 4 area to detect cracks, and, depending on findings, accomplishment of applicable corrective action(s) [repair or replacement]. This AD also provides an optional [modification that constitutes] terminating action for the repetitive SDI required by this [EASA] AD.

One of the optional modifications includes related investigative and corrective actions. The related investigative action is a high frequency eddy current (HFEC) rotating probe inspection for cracks, and the corrective action is a repair. You may examine the MCAI in the AD docket on the Internet at http://www.regulations.gov by searching for and locating Docket No. FAA-2017-0478.

Comments

We gave the public the opportunity to participate in developing this AD. The following presents the comments received on the NPRM and the FAA's response to each comment.

Requests To Refer to Updated Service Information

Delta Air Lines and United Airlines requested that we revise the NPRM to refer to Airbus Service Bulletin A320-52-1171, Revision 02, dated April 10, 2017. United Airlines mentioned that Airbus has made number of updates and clarifications in Airbus Service Bulletin A320-52-1171, Revision 02, dated April 10, 2017. Additionally, United Airlines pointed out that EASA AD 2016-0187, dated September 19, 2016, quoted in the “Discussion” section of the NPRM, allows for use of later approved revisions.

We agree with the commenters for the reasons provided. We have revised this AD to refer to Airbus Service Bulletin A320-52-1171, Revision 02, dated April 10, 2017. We have also redesignated paragraph (m) (of the proposed AD) as paragraph (m)(1) of this AD and added paragraph (m)(2) to provide credit for actions done before the effective date of this AD, if those actions were done using Airbus Service Bulletin A320-52-1171, Revision 01, dated September 5, 2016.

Request To Clarify That Certain Service Information Cancels the Requirements of Certain Other Service Information

United Airlines requested that we clarify that Airbus Service Bulletin A320-52-1171, Revision 02, dated April 10, 2017, cancels the requirements of Airbus Service Bulletin A320-52-1032. The commenter indicated that a statement regarding this subject would clarify the required actions for operators. The commenter also pointed out that a statement is listed in Airbus Service Bulletin A320-52-1171, Revision 02, dated April 10, 2017, that specifies the cancellation of the requirements of Airbus Service Bulletin A320-52-1032.

We agree to clarify. Airbus Service Bulletin A320-52-1171, Revision 02, dated April 10, 2017, does include a statement indicating that the actions specified in Airbus Service Bulletin A320-52-1171, Revision 02, dated April 10, 2017, cancel the actions specified in Airbus Service Bulletin A320-52-1032. However, the actions specified in Airbus Service Bulletin A320-52-1032 are not required by any AD, and therefore, we do not specifically address Airbus Service Bulletin A320-52-1032 in this AD (except for the compliance time reference in paragraph (h)(4) of this AD). We have not changed this AD in this regard.

Request To Update the NPRM To Include Modifications 22948 and 26213

Delta Air Lines requested that we revise paragraphs (c) and (g) of the proposed AD to refer to Modifications 22948 and 26213. Specifically, Delta Air Lines requested that we include information that elaborates on the specific airplanes affected by the NPRM. Delta Air Lines pointed out that EASA AD 2016-0187, dated September 19, 2016, quoted in the “Discussion” section of the NPRM, and Airbus Service Bulletin A320-52-1042, Revision 2, dated January 14, 1997, already refer to the modifications. Delta Air Lines also mentioned that it has 40 forward and aft cargo compartment doors affected by the NPRM, which are pre-Modifications 22948 and 26213 and under manufacturer serial number 0758.

We disagree to refer to Modifications 22948 and 26213 in paragraphs (c) and (g) of this AD; however, we agree that clarification is necessary. The applicability of this AD refers to the affected models having manufacturer serial numbers through 0758 inclusive; all airplanes having these serial numbers are affected by the identified unsafe condition. Airbus introduced modification 22948 in production, and issued Airbus Service Bulletin A320-52-1032 for recommended inspections and Airbus Service Bulletin A320-52-1042 for recommended modification 22948. Since that service information was issued, Airbus has introduced further improved forward and aft cargo compartment doors (modification 26213) in production on airplanes having manufacturer serial number 0759 and above; however, this modification is unavailable for in-service retrofit. Modification 26213 includes provisions that prohibit installation of earlier configurations of forward or aft cargo compartment doors (pre-modification 26213). Airplanes having manufacturer serial numbers 0759 and subsequent have modification 26213 installed in production. We have not changed this AD in this regard.

Request To Include Instructions for Rotable Parts

Delta Air Lines requested that we include instructions for rotable parts in paragraph (g) of the proposed AD. The commenter mentioned that forward or aft cargo compartment doors could be migrated from manufacturer serial number 0759 and above to airplanes that are affected, and asked if those airplanes are still affected. The commenter also requested that Airbus provide a list of manufacturer serial numbers that are affected by the proposed AD.

We partially agree with the commenter. Airplanes originally delivered with the affected doors are subject to the requirements of this AD. Paragraph (h) of this AD only requires actions on affected doors. It is not physically possible to install the affected doors on serial numbers 0759 and above; therefore, parts rotability does not need to be addressed in this AD.

In addition, paragraph (n) of this AD provides a parts installation limitation for the forward or aft cargo compartment doors for the airplanes identified in paragraph (c) of this AD. We have no practical method to provide a manufacturer serial number list of affected airplanes on which a non-affected door might have been installed or to predict an airplane configuration in the worldwide fleet. Therefore, we have not changed this AD in this regard.

Request To Clarify Optional Terminating Actions

United Airlines requested that we clarify the optional terminating actions specified in paragraph (j) of the proposed AD. The commenter requested we include a statement that specifies modification of all affected doors of an airplane in accordance with the requirements of paragraphs (j)(1), (j)(2), or (j)(3) of this AD constitutes terminating action. The commenter pointed out that EASA AD 2016-0187, dated September 19, 2016, quoted in the “Discussion” section of the NPRM, allows for modification of an airplane as specified in Airbus Service Bulletin A320-52-1042, Revision 2, dated January 14, 1997; or Airbus Service Bulletin A320-52-1170, dated September 5, 2016; and either is considered terminating action for the repetitive inspections.

We agree that clarification is necessary. We have revised paragraph (j) of this AD to include introductory text with the statement: “Modification of all affected doors of an airplane in accordance with the requirements of paragraph (j)(1), (j)(2), or (j)(3) of this AD constitutes terminating action . . . .”

Request To Include Compliance Times for Optional Terminating Actions

Mr. Petit requested that we add compliance times for the optional terminating actions specified in the proposed AD. Mr. Petit indicated that 14 CFR 26.21 might require a mandatory terminating action before 56,300 flight cycles. Mr. Petit also recommended that the optional terminating action not be embodied before 21,700 flight cycles.

We disagree with the commenter's request to include compliance times for the optional terminating action specified in this AD. 14 CFR 26.21 mandates the limit of validity (LOV) and does not specify compliance times for the optional terminating action specified in this AD. This AD mandates repetitive inspections of the frame forks as specified in the service information provided by the design approval holder (DAH) to meet the LOV. In addition, we do not include compliance times for optional actions in ADs because doing so would make the actions mandatory. We intend for the terminating actions in this AD to be optional, which aligns with the MCAI.

Regarding the commenter's recommendation to prohibit accomplishing the optional terminating action before 21,700 flight cycles, the commenter provided no substantiation for this prohibition. We have received no data indicating that the optional terminating action should not be accomplished before 21,700 flight cycles. Therefore, we have not changed this AD in this regard.

Clarification of Exception

Paragraph (i)(2) of the proposed AD, which refers to Airbus Service Bulletin A320-52-1170, dated September 5, 2016, includes an exception as specified in paragraph (k) of the proposed AD. However, paragraph (k) of the proposed AD does not mention Airbus Service Bulletin A320-52-1170, dated September 5, 2016. We have added Airbus Service Bulletin A320-52-1170, dated September 5, 2016, to the exception specified in paragraph (k) of this AD.

Conclusion

We reviewed the relevant data, considered the comments received, and determined that air safety and the public interest require adopting this AD with the changes described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

Airbus has issued the following service information.

• Airbus Service Bulletin A320-52-1171, Revision 02, dated April 10, 2017, describes procedures for repetitive special detailed inspections of all frame forks in the beam 4 area of any affected door, and corrective actions.

• Airbus Service Bulletin A320-52-1042, Revision 2, dated January 14, 1997, describes procedures for modification of all affected forward and aft cargo compartment doors of an airplane.

• Airbus Service Bulletin A320-52-1170, dated September 5, 2016, describes modification of all affected forward and aft cargo compartment doors of an airplane, including related investigative and corrective actions.

This service information is reasonably available because the interested parties have access to it through their normal course of business or by the means identified in the ADDRESSES section.

Costs of Compliance

We estimate that this AD affects 88 airplanes of U.S. registry.

We estimate the following costs to comply with this AD:

Estimated Costs
Action | Labor cost | Parts cost | Cost per product | Cost on U.S. operators
Special detailed inspection | 25 work-hours × $85 per hour = $2,125 | $0 | $2,125 | $187,000

Optional Actions
Action | Labor cost | Parts cost | Cost per product
Modification | 24 work-hours × $85 per hour = $2,040 | Up to $240 | Up to $2,280.

We have received no definitive data that would enable us to provide cost estimates for the on-condition repairs and replacements specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-22-07 Airbus: Amendment 39-19087; Docket No. FAA-2017-0478; Product Identifier 2016-NM-174-AD.

(a) Effective Date

This AD is effective January 2, 2018.

(b) Affected ADs

None.

(c) Applicability

This AD applies to Airbus Model A319-111, -112, -113, -114, -115, -131, -132, and -133 airplanes; Model A320-211, -212, -214, -231, -232, and -233 airplanes; and Model A321-111, -112, -131, -211, -212, -213, -231, and -232 airplanes, certificated in any category, manufacturer serial numbers through 0758 inclusive.

(d) Subject

Air Transport Association (ATA) of America Code 52, Doors.

(e) Reason

This AD was prompted by a report of cracks on the frame forks and outer skin on the forward and aft cargo compartment doors. We are issuing this AD to detect and correct cracks on the frame forks and outer skin on the forward and aft cargo compartment doors, which could lead to reduced structural integrity and failure of the cargo compartment door, possible decompression of the airplane, and injury to occupants.

(f) Compliance

Comply with this AD within the compliance times specified, unless already done.

(g) Definition of Affected Door

For the purpose of this AD, an “affected door” is a forward or aft cargo compartment door, having any part number listed in table 1 to paragraph (g) of this AD, except a cargo compartment door on which Airbus Service Bulletin A320-52-1042 or Airbus Service Bulletin A320-52-1170 is embodied.

(h) Repetitive Special Detailed Inspection of Frame Forks

At the latest of the compliance times listed in paragraphs (h)(1) through (h)(4) of this AD: Do a special detailed inspection of all frame forks in the beam 4 area of any affected door as defined in paragraph (g) of this AD, in accordance with the Accomplishment Instructions of Airbus Service Bulletin A320-52-1171, Revision 02, dated April 10, 2017, except as specified in paragraphs (k) and (l) of this AD. Repeat the inspection thereafter at intervals not to exceed 3,000 flight cycles. A review of the airplane delivery or maintenance records is acceptable to identify any affected door installed on the airplane, provided that the cargo compartment door part number can be conclusively determined from that review.

(1) Before exceeding 37,500 flight cycles since first installation of the door on an airplane.

(2) Within 900 flight cycles after the effective date of this AD, without exceeding 41,950 flight cycles since first installation of the door on an airplane.

(3) Within 50 flight cycles after the effective date of this AD, for a door having reached or exceeded 41,900 flight cycles since first installation on an airplane.

(4) Within 3,000 flight cycles since the last inspection of the door as specified in Airbus Service Bulletin A320-52-1032.

(i) Corrective Actions

If any crack is found during any inspection required by paragraph (h) of this AD, before further flight, do all applicable corrective actions in accordance with the Accomplishment Instructions of Airbus Service Bulletin A320-52-1171, Revision 02, dated April 10, 2017, except as specified in paragraphs (k) and (l) of this AD. Accomplishment of applicable corrective actions does not constitute terminating action for the repetitive inspections.

(j) Optional Terminating Action

Modification of all affected doors of an airplane in accordance with the requirements of paragraph (j)(1), (j)(2), or (j)(3) of this AD, constitutes terminating action for the repetitive inspections specified in paragraph (h) of this AD for that airplane.

(1) Modification of all affected doors of an airplane in accordance with the Accomplishment Instructions of Airbus Service Bulletin A320-52-1042, Revision 2, dated January 14, 1997, constitutes terminating action for the repetitive inspections specified in paragraph (h) of this AD for that airplane, provided that, after modification, no affected door is re-installed on that airplane.

(2) Modification of all affected doors of an airplane including accomplishment of all applicable related investigative and corrective actions in accordance with the Accomplishment Instructions of Airbus Service Bulletin A320-52-1170, dated September 5, 2016, except as specified in paragraph (k) of this AD, constitutes terminating action for the repetitive inspections specified in paragraph (h) of this AD for that airplane, provided that, after modification, no affected door is re-installed on that airplane.

(3) Modification of all affected doors on an airplane, in case of finding damaged frame forks, as specified in an Airbus Repair Design Approval Sheet (RDAS), and done in accordance with a method approved by the Manager, International Section, Transport Standards Branch, FAA; or the European Aviation Safety Agency (EASA); or Airbus's EASA Design Organization Approval (DOA); constitutes terminating action for the repetitive inspection specified in paragraph (h) of this AD for that airplane, provided that, after modification, no affected door is re-installed on that airplane.

(k) Exception to Service Information

Where Airbus Service Bulletin A320-52-1170, dated September 5, 2016; or Airbus Service Bulletin A320-52-1171, Revision 02, dated April 10, 2017; specifies to contact Airbus for appropriate action, and specifies that action as “RC” (Required for Compliance): Before further flight, accomplish corrective actions in accordance with the procedures specified in paragraph (o)(2) of this AD.

(l) No Reporting Requirement

Although Airbus Service Bulletin A320-52-1171, Revision 02, dated April 10, 2017, specifies to submit certain information to the manufacturer, and specifies that action as “RC,” this AD does not include that requirement.

(m) Credit for Previous Actions

(1) This paragraph provides credit for the actions required by paragraphs (h) and (i) of this AD, if those actions were performed before the effective date of this AD using Airbus Service Bulletin A320-52-1171, dated October 29, 2015, provided that it can be conclusively determined that any part number D52371000018 was also inspected as specified in paragraph (h) of this AD.

(2) This paragraph provides credit for the actions required by paragraphs (h) and (i) of this AD, if those actions were performed before the effective date of this AD using Airbus Service Bulletin A320-52-1171, Revision 01, dated September 5, 2016.

(n) Parts Installation Limitation

As of the effective date of this AD, no person may install, on any airplane, an affected door specified in paragraph (g) of this AD, unless it has been inspected in accordance with the requirements of paragraph (h) of this AD and all applicable corrective actions have been done in accordance with paragraph (i) of this AD.

(o) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (p)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or EASA; or Airbus's EASA DOA. If approved by the DOA, the approval must include the DOA-authorized signature.

(3) Required for Compliance (RC): Except as specified in paragraphs (k) and (l) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(p) Related Information

(1) Refer to Mandatory Continuing Airworthiness Information (MCAI) EASA AD 2016-0187, dated September 19, 2016, for related information. This MCAI may be found in the AD docket on the Internet at http://www.regulations.gov by searching for and locating Docket No. FAA-2017-0478.

(2) For more information about this AD, contact Sanjay Ralhan, Aerospace Engineer, International Section, Transport Standards Branch, FAA, 1601 Lind Avenue SW., Renton, WA 98057-3356; telephone: 425-227-1405; fax: 425-227-1149.

(3) Service information identified in this AD that is not incorporated by reference is available at the addresses specified in paragraphs (q)(3) and (q)(4) of this AD.

(q) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-52-1042, Revision 2, dated January 14, 1997 (pages 5, 9, and 19 through 22 of this document are identified as Revision 1, dated November 22, 1993).

(ii) Airbus Service Bulletin A320-52-1170, dated September 5, 2016, including Appendices 01 and 02, dated September 5, 2016.

(iii) Airbus Service Bulletin A320-52-1171, Revision 02, dated April 10, 2017.

(3) For service information identified in this AD, contact Airbus, Airworthiness Office—EIAS, 1 Rond Point Maurice Bellonte, 31707 Blagnac Cedex, France; telephone: +33 5 61 93 36 96; fax: +33 5 61 93 44 51; email: account.airworth-eas@airbus.com; Internet: http://www.airbus.com.

(4) You may view this service information at the FAA, Transport Standards Branch, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on October 17, 2017.
Jeffrey E. Duven,
Director, System Oversight Division, Aircraft Certification Service.

[FR Doc. 2017-23349 Filed 11-27-17; 8:45 am]

BILLING CODE 4910-13-P